OFFICE OF PERSONNEL MANAGEMENT

Submission for Review: USAJOBS Resume Builder and Application Profile, OMB Control No. 3206-0219

AGENCY: Office of Personnel Management.

ACTION: 30-Day Notice and request for comments.

SUMMARY: In accordance with the Paperwork Reduction Act of 1995, OPM is proposing revisions to a currently approved information collection, USAJOBS Resume Builder and Application Profile, OMB Control No. 3206-0219. The information collection was previously published in the Federal Register with a 60-day public comment period. The purpose of this notice is to allow an additional 30 days for public comments.

DATES: Comments are encouraged and will be accepted until July 3, 2025. This process is conducted in accordance with 5 CFR 1320.1.

ADDRESSES: Written comments and recommendations for proposed information collection requests should be sent to www.reginfo.gov/public/do/PRAMain. Find this particular information collection request by selecting “Office of Personnel Management” under “Currently Under Review,” then check “Only Show ICR for Public Comment” checkbox.

FOR FURTHER INFORMATION CONTACT: For specific questions related to this information collection activity, please contact: Human Resources Solution, Office of Personnel Management, 1900 E Street NW, Washington, DC 20415, Attention: Cori Schauer, via phone at 202-606-1800 or via electronic mail to USAJOBSEngagement@opm.gov.

SUPPLEMENTARY INFORMATION: The Office of Personnel Management, in accordance with the Paperwork Reduction Act of 1995 (PRA) (44 U.S.C. chapter 35), provides the public with an opportunity to comment on proposed, revised, and continuing collections of information. This helps the Agency assess the impact of its information collection requirements and minimize the public's reporting burden. It also helps the public understand the Agency's information collection requirements and provide the requested data in the desired format. This information collection was previously published in the Federal Register on April 16, 2024, at 89 FR 26951, allowing for a 60-day public comment period. No comments were received.

OPM is soliciting comments on behalf of OMB for the proposed information collection request (ICR) that is described below. OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Please note that written comments received in response to this notice will be considered public records.

Analysis

Agency: Office of Personnel Management.

Title: OPM Customer Experience.

OMB Number: 3206-0219.

Affected Public: Individuals.

Number of Resumes built in one year: 25,725,380.

Estimated Time per Respondent: 38 minutes.

Total Burden Hours for Resume Builder: 16,206,989 hours.

Number of Profiles created in one year: 3,013,003.

Estimated Time per Profile: 5 minutes.

Total Burden Hours for Application Profile: 241,040 hours.

Total Burden hours for Resume Builder and Application Profile: 16,448,029 hours.

Office of Personnel Management.
Alexys Stanley,
Federal Register Liaison.

[FR Doc. 2025-09979 Filed 6-2-25; 8:45 am]

BILLING CODE 6325-43-P